FEDERAL RESERVE SYSTEM

12 CFR Part 230

[Regulation DD; Docket No. R-1315]

Truth in Savings; Correction

AGENCY: Board of Governors of the Federal Reserve System (Board).

ACTION: Final rule; technical correction.

SUMMARY: On January 29, 2009, the Board published final rules amending Regulation DD, which implements the Truth in Savings Act, and the official staff commentary to the regulation. The final rule, among other things, requires all depository institutions to disclose aggregate overdraft fees on periodic statements, and not solely institutions that promote the payment of overdrafts. However, the document published in the Federal Register on January 29, 2009 contains a technical error in the formatting of the sample form illustrating how institutions may comply with this requirement. To correct this error, this document republishes the appropriate sample form.

DATES: This correction is effective January 1, 2010.

FOR FURTHER INFORMATION CONTACT: Dana E. Miller, Attorney, Vivian W. Wong, Senior Attorney, or Ky Tran-Trong, Counsel, Division of Consumer and Community Affairs, Board of Governors of the Federal Reserve System, 20th and C Streets, NW., Washington, DC 20551, at (202) 452-3667 or (202) 452-2412. For users of a Telecommunications Device for the Deaf (TDD) only, contact (202) 263-4869.

SUPPLEMENTARY INFORMATION: On January 29, 2009, the Board published final rules amending Regulation DD, which implements the Truth in Savings Act, and the official staff commentary to the regulation. The final rule, among other things, requires all depository institutions to disclose aggregate overdraft fees on periodic statements, and not solely institutions that promote the payment of overdrafts. However, the document published in the Federal Register on January 29, 2009 contains a technical error in the formatting of the sample form illustrating how institutions may comply with this requirement. To correct this error, this document republishes the appropriate sample form.

Basis for the Corrections

The Board is issuing this technical correction as a final rule that will be effective upon publication in the Federal Register. The Administrative Procedure Act (the Act) provides that notice and comment procedures do not apply if the agency for good cause finds notice to be “impracticable, unnecessary, or contrary to the public interest.” The Act also provides that notice and comment procedures do not apply for interpretive rules. In addition, a rule may be made effective less than thirty days from publication when an agency finds good cause for such action. 5 U.S.C. 553(b)(A)-(B) and (d)(3).

The Board finds that the Act does not require notice of a proposed rulemaking before the final publication of the corrected sample form. There is good cause to publish the formatting requirements without notice and comment because these procedures are unnecessary. The formatting correction to the sample form is a non-substantive change to the form. The republication merely corrects an error that occurred in the printing of the sample form when it was originally published. For this same reason, the Board finds that there is good cause for the rule to take effect upon publication.

In addition, the correction may be viewed as interpretative in that the form only indicates how the rule should apply, and, therefore, a notice of proposed rulemaking is not required.

Paperwork Reduction Act

This technical correction contains no collection of information pursuant to the Paperwork Reduction Act.

In the final rule FR Doc. E8-31183 published in the Federal Register on January 29, 2009 (74 FR 5584) make the following correction:

Appendix B to Part 230—[Corrected]

1. On page 5593, in the third column, Form B-10. is corrected to read as follows:

Appendix B to Part 230—Model Clauses and Sample Forms

* * * * *

* * * * *

By order of the Board of Governors of the Federal Reserve System, April 14, 2009.
Jennifer J. Johnson,
Secretary of the Board.

[FR Doc. E9-8847 Filed 4-16-09; 8:45 am]

BILLING CODE 6210-01-P